FEDERAL COMMUNICATIONS COMMISSION

[MB Docket Nos. 07-294; 06-121; 02-277; 04-228; MM Docket Nos. 01-235; 01-317; 00-244; DA 09-1221]

Promoting Diversification of Ownership in the Broadcasting Services

AGENCY: Federal Communications Commission.

ACTION: Notice.

SUMMARY: The Media Bureau Order suspends the biennial filing requirement for the existing Form 323 for licensees who would otherwise be required to file their biennial ownership report between May 29, 2009 and November 1, 2009. There are three filing dates between May 29, 2009 and November 1, 2009: June 1, August 1, and October 1.

FOR FURTHER INFORMATION CONTACT: Mania Baghdadi, (202) 418-2330; Amy Brett (202) 418-2330.

SUPPLEMENTARY INFORMATION: On May 5, 2009, the Commission released a Report and Order and Fourth Further Notice of Proposed Rulemaking in its Diversification of Ownership proceeding (“Order”). In pertinent part, the Order revised certain requirements for filing FCC Form 323, which provides ownership information about broadcast facilities. The Order enlarged the class of broadcast licensees required to file FCC Form 323 biennially, and it substituted a uniform biennial filing deadline for the current system of rolling filing deadlines that are tied to a station's renewal anniversary. Pursuant to these new requirements, all commercial full power AM, FM, and TV stations; LPTV and Class A stations; and entities with attributable or reportable interests in them, are required to file the revised FCC Form 323 on or before November 1, 2009, with information current as of October 1, 2009, and to file biennially thereafter. For purposes of the biennial filing requirement, the Order provided that certain nonattributable interests would be reportable: (1) Minority voting stock interests in a corporation with a single majority shareholder, and (2) interests in an eligible entity that would otherwise be attributable under the Equity/Debt Plus attribution rule.

On its own motion, the Commission's Media Bureau is suspending the filing requirement for the existing Form 323 for licensees that would otherwise be required to file from May 29, 2009, the date the Media Bureau Order was released, through November 1, 2009. The Media Bureau believes that it is in the public interest to relieve filers from the burden of filing the existing Form 323 within the six months prior to the new November 1 filing requirement. On balance, the burden of requiring licensees and other entities to file twice within a six-month period outweighs the benefit of receiving the ownership information. In addition, a suspension of the filing requirement will not impair the ability to assess the state of minority or female ownership. In the event that the OMB approval for the new Form 323 has not been received by the November 1, 2009 filing deadline, all filers who would have been required to file Form 323 between May 29, 2009 and November 1, 2009, will be required to file the existing Form 323 by November 1, 2009.

Accordingly, it is ordered, that pursuant to authority under sections 4(i) and 303(r) of the Communications Act of 1934, as amended, 47 U.S.C. 154 and 303(r) and pursuant to authority delegated to the Media Bureau pursuant to §§ 0.204 and 0.283 of the Commission's rules, 47 CFR 0.204 and 0.283, a suspension of the filing requirements as described in the Media Bureau Order is granted, sua sponte.

Federal Communications Commission.
Robert H. Ratcliffe,
Acting Chief, Media Bureau.

[FR Doc. E9-14597 Filed 6-19-09; 8:45 am]

BILLING CODE 6712-01-P